Proclamation 7702 of September 4, 2003

Patriot Day, 2003

By the President of the United States of America

A Proclamation

Two years ago, more than 3,000 innocent people lost their lives when a calm September morning was shattered by terrorists driven by hatred and destruction.

On that day, and in its aftermath, we saw the greatness of America in the bravery of victims; in the heroism of first responders who laid down their lives to save others; in the compassion of people who stepped forward to help those they had never met; and in the generosity of millions of Americans who enriched our country with acts of service and kindness. Since that day, we have seen the greatness of America further demonstrated in the courage of our brave men and women in uniform who have served and sacrificed in Afghanistan, in Iraq, and around the world to advance freedom and prevent terrorist attacks on America.

As we remember September 11, 2001, we reaffirm the vows made in the earliest hours of our grief and anger. As liberty's home and defender, America will not tire, will not falter, and will not fail in fighting for the safety and security of the American people and a world free from terrorism. We will continue to bring our enemies to justice or bring justice to them. This Patriot Day, we hold steady to this task.

By a joint resolution approved December 18, 2001 (Public Law 107-89), the Congress has designated September 11 of each year as “Patriot Day.”

NOW, THEREFORE, I, GEORGE W. BUSH, President of the United States of America, do hereby proclaim September 11, 2003, as Patriot Day. I call upon the people of the United States to observe this day with appropriate ceremonies and activities, including remembrance services and candlelight vigils. I also call upon the Governors of the United States and the Commonwealth of Puerto Rico, as well as appropriate officials of all units of government, to direct that the flag be flown at half-staff on Patriot Day. In addition, I call upon all Americans to display the flag at half-staff from their homes on that day and to observe a moment of silence beginning at 8:46 a.m. eastern daylight time to honor the innocent victims who lost their lives as a result of the terrorist attacks of September 11, 2001.

IN WITNESS WHEREOF, I have hereunto set my hand this fourth day of September, in the year of our Lord two thousand three, and of the Independence of the United States of America the two hundred and twenty-eighth.

B

[FR Doc. 03-23090

Filed 9-8-03; 8:45 am]

Billing code 3195-01-P